DEPARTMENT OF HOMELAND SECURITY

Coast Guard

[Docket No. USCG-2018-0185]

Cooperative Research and Development Agreement: Safe Parameters for Ice Operations

AGENCY: Coast Guard, DHS.

ACTION: Notice of intent; request for comments.

SUMMARY: The Coast Guard is announcing its intent to enter into a Cooperative Research and Development Agreement (CRADA) with W.L. GORE and Associates Inc. (GORE) to conduct insulation value testing for the Coast Guard's Maritime Cold Weather Suit System (MCWSS) in the air instead of the water, which the system was designed for. While the Coast Guard is currently considering partnering with GORE, we are soliciting public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov on or before May 21, 2018.

Synopses of proposals regarding future CRADAs must reach the Coast Guard (see FOR FURTHER INFORMATION CONTACT) on or before May 21, 2018.

ADDRESSES: Submit comments online at http://www.regulations.gov following website instructions.

FOR FURTHER INFORMATION CONTACT: If you have questions on this notice or wish to submit proposals for future CRADAs, contact LT Ryan Huebner, Project Official, Surface Branch, U.S. Coast Guard Research and Development Center, 1 Chelsea Street, New London, CT 06320, telephone 860-271-2815, email Ryan.P.Huebner@uscg.mil.

SUPPLEMENTARY INFORMATION:

Public Participation and Request for Comments

We request public comments on this notice. Although we do not plan to respond to comments in the Federal Register we will respond directly to commenters and may modify our proposal in light of comments.

Comments should be marked with docket number USCG-2018-0185 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal eRulemaking Portal at http://www.regulations.gov. If your material cannot be submitted using http://www.regulations.gov, contact the Coast Guard (see FOR FURTHER INFORMATION CONTACT). Documents mentioned in this notice, and all public comments, are in our online docket at http://www.regulations.gov and can be viewed by following that website's instructions. Additionally, if you go to the online docket and sign up for email alerts, you will be notified when comments are posted or a final rule is published.

If desired, submit detailed proposals for future CRADAs directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the R&D Center will collaborate with one non-Federal participant. Together, the R&D Center and the non-Federal participant will conduct thermo conductive tests on the Coast Guard's MWCSS in various environmental scenarios to determine the system's insulation properties to be used to create safe parameters for personnel wearing the MWCSS during Ice Rescue missions.

We anticipate that the Coast Guard's contributions under the proposed CRADA will include the following:

(1) Provide appropriate staff with pertinent expertise to take the lead in accomplishing the required tasks;

(2) Provide information regarding the ensemble items and parameters needed for creating the test plan;

(3) Provide all support resources, including travel, for Coast Guard staff that supports this CRADA;

(4) Obtain, transport and provide all of the ensemble items to be used during the testing;

(5) Provide personnel support to non-Federal participant to assist with setting up and execute testing in accordance with the agreed upon test plan;

(6) Work with non-Federal participant to develop a Final Report, which will document the methodologies, findings, conclusions, and recommendations of this CRADA work.

We anticipate that the non-Federal participants' contributions under the proposed CRADA will include the following:

(1) Provide appropriate staff with pertinent expertise to support the above mentioned tasks;

(2) Provide all necessary facility resources needed to conduct insulation value testing;

(3) Provide technical approach for the test plan;

(4) Lead the testing runs of the Coast Guard's MWCSS in accordance with the agreed upon test plan;

(5) Provide test data upon completion of testing.

The Coast Guard reserves the right to select for CRADA participants all, some, or no proposals submitted for this CRADA. The Coast Guard will provide no funding for reimbursement of proposal development costs. Proposals and any other material submitted in response to this notice will not be returned. Proposals submitted are expected to be unclassified and have not more than five single-sided pages (excluding cover page, DD 1494, JF-12, etc.). The Coast Guard will select proposals at its sole discretion on the basis of:

(1) How well they communicate an understanding, of and ability to meet, the proposed CRADA's goal; and

(2) How well they address the following criteria:

(a) Technical capability to support the non-Federal party contributions described, and

(b) Resources available for supporting the non-Federal party contributions described.

Currently, the Coast Guard is considering GORE for participation in this CRADA. This consideration is based on the fact that GORE has demonstrated its technical ability and availability of appropriate facilities to effectively determine insulation properties of clothing. However, we do not wish to exclude other viable participants from this or future similar CRADAs.

This is a technology assessment effort. The goal of the Coast Guard for this CRADA is to determine the insulation properties of the Coast Guard's MWCSS in the air instead of the water which the system was designed for. Special consideration will be given to small business firms/consortia, and preference will be given to business units located in the U.S. This notice is issued under the authority of 5 U.S.C. 552(a).

Dated: April 10, 2018.
G.C. Rothrock,
Captain, U.S. Coast Guard, Commanding Officer, U.S. Coast Guard Research and Development Center.

[FR Doc. 2018-08311 Filed 4-19-18; 8:45 am]

BILLING CODE 9110-04-P